DEPARTMENT OF HOUSING AND URBAN DEVELOPMENT

[Docket No. FR-5214-N-01]

Notice of Fiscal Year (FY) 2008 Opportunity To Register and Other Important Information for Electronic Application Submission for Continuum of Care Homeless Assistance Programs

AGENCY: Office of Community Planning and Development, HUD.

ACTION: Notice.

SUMMARY: For fiscal year (FY) 2008, HUD will require Continuums of Care to submit their applications electronically, using e-snaps, an electronic system separate from Grants.gov. This Notice provides detailed instructions on completing the Continuum of Care (CoC) registration process for e-snaps. This Notice also provides applicants important information, including definitions and the necessary CoC planning process, that CoC and project applicants should be familiar with prior to applying for FY2008 CoC Homeless Assistance funding. Finally, today's Notice provides information about the major changes that HUD will make to the FY2008 CoC Homeless Assistance competition.

FOR FURTHER INFORMATION CONTACT: The HUD Field Office serving your area. This information can be found at http://www.hud.gov/localoffices.cfm.

Full Text of Announcement

HUD will make approximately $1.423 billion available through the FY2008 CoC Homeless Assistance NOFA. For FY2008, HUD is transitioning the CoC program from a paper process to an electronic process. Today's Notice provides detailed instructions on completing the CoC registration process for e-snaps, an electronic system separate from Grants.gov. The uniform resource identifier/locater (URL) for e-snaps is http://www.hud.gov/esnaps. Today's Notice also provides applicants important information, including necessary definitions and the CoC planning process, that CoC and project applicants should be familiar with prior to applying for FY2008 CoC Homeless Assistance funding and important information about the major changes that HUD will make to the FY2008 CoC Homeless Assistance competition. HUD anticipates publishing its FY2008 CoC NOFA in the Federal Register no earlier than July 1, 2008.

As noted herein, applicants for project funding will continue to be required to register with Dun and Bradstreet (D&B) and complete or renew their registration in the Central Contractor Registration (CCR). For more information regarding registering with D&B and CCR, HUD encourages applicants to closely review HUD's March 10, 2008, FY2008 Notice of Early Registration, (72 FR 12751) and HUD's FY2008 General Section, published March 19, 2008 (73 FR 14882).

This Notice is divided into three sections. Section I describes the important overview information that CoCs and project applicants should be familiar with prior to applying for FY2008 Homeless Assistance funding. This includes pertinent definitions and the CoC planning process. Section II of this Notice provides detailed information on completing the CoC registration process in e-snaps. Finally, Section III provides information about the major changes that HUD will make to the FY2008 CoC Homeless Assistance competition. HUD hopes that this will assist CoCs in better planning their FY2008 CoC application.

I. Overview Information

A. Program Description

Approximately $1.423 billion is available for funding through the FY2008 CoC Homeless Assistance Competition. The purpose of the CoC Homeless Assistance Program is to reduce the incidence of homelessness in CoC communities by assisting homeless individuals and families to move to self-sufficiency and permanent housing.

B. Definitions

The only definitions contained in this Notice are those necessary for CoCs to understand in order to complete the FY2008 CoC registration process. A complete list of definitions will be provided in the FY2008 CoC NOFA.

1. Annual Renewal Amount. The maximum amount that a Supportive Housing Program (SHP) grant can receive on an annual basis when renewed. It includes funds for only those eligible activities (operating, supportive services, leasing, Homeless Management Information System (HMIS) and administration) that were funded in the original grant (or the original grant as amended), less the nonrenewable activities (acquisition, new construction, rehabilitation, and any administration costs related to these activities). It is used to calculate a CoC's Hold Harmless Need amount.

To calculate the Annual Renewal Amount (ARA) for SHP grants, add up the amount of the renewable budget line items (i.e., operating, supportive services, leasing, HMIS, and administration) for all the years of the most recent grant, and divide by the number of years in the grant term. Any funding for acquisition, rehabilitation, new construction—and any administration costs related to those activities—is not renewable and therefore should not be calculated in the ARA. If the initial grant included these activities, administrative costs may only be calculated up to 5 percent of the total of leasing, operating, HMIS, and supportive services costs contained in the initial grant.

For example, if the initial three-year grant was for $472,500 ($150,000 for new construction, $150,000 for operating costs, $150,000 for supportive services, and $22,500 for administration), the new construction costs, and any administration costs associated with it, would not be eligible for renewal. Thus, the total renewable amount would be $315,000 ($150,000 for operating costs, $150,000 for supportive services, and $15,000 for administration) and the ARA is $105,000 ($315,000 divided by the three-year grant term).

If the initial three-year grant was $315,000 and did not include acquisition, rehabilitation or new construction costs, ($150,000 for operating costs, $150,000 for supportive services, and $15,000 for administration), the ARA would be $105,000 ($315,000 divided by the three-year grant term).

2. Continuum of Care. A collaborative funding and planning approach that helps communities plan for and provide, as necessary, a full range of emergency, transitional, and permanent housing and other service resources to address the various needs of homeless persons. HUD also refers to the group of stakeholders involved in the decision making processes as the “Continuum of Care.”

3. Continuum of Care Lead Agency. Agency or organization designated by the CoC primary decision making body to be the entity that submits the CoC application.

4. Continuum of Care Lead Agency Contact. Person(s) with the authority to submit the Continuum of Care Homeless Assistance Competition application on behalf of the CoC, usually the Executive Director or CEO of the CoC Lead Agency.

5. Continuum of Care Need Amounts

a. Continuum of Care Preliminary Pro Rata Need (PPRN). Amount of funds a CoC could receive based upon the geography that HUD approves as belonging to that CoC. To determine the homeless assistance need of a particular jurisdiction, HUD will use nationally available data, including the following factors as used in the Emergency Shelter Grants (ESG) program formula: data on poverty, housing overcrowding, population, age of housing, and growth lag. Applying those factors to a particular jurisdiction provides an estimate of the relative need index for that jurisdiction compared to other jurisdictions applying for assistance under the FY2008 CoC NOFA. Each year HUD publishes the PPRN for each jurisdiction. A CoC's PPRN is determined by adding the published PPRN of each jurisdiction within the HUD-approved CoC. The list of geographic areas and CoC Names and Numbers can be found at http://www.hudhre.info or at http://www.hud.gov.

b. Continuum of Care Hold Harmless Need (HHN). The amount of funds a CoC is eligible to receive where the ARA of all SHP grants expiring in that CoC during the period beginning January 1, 2009 and ending December 31, 2009 exceeds the PPRN for that CoC. The HHN is the amount needed to fund the expiring renewal grants for one year. To provide communities with maximum flexibility in addressing current needs, CoCs have the discretion to not fund or to reduce one or more SHP renewal project applications through the HHN Reallocation process and still receive the benefit of the hold harmless need amount if the CoC proposes to use that amount of reduced renewal funds for new permanent supportive housing or new dedicated HMIS SHP projects.

c. Continuum of Care Final Pro Rata Need (FPRN). The higher amount of: (1) PPRN and (2) HHN.

6. Continuum of Care Primary Decision Making Group. This group manages the overall planning effort for the CoC, including, but not limited to, the following types of activities: setting agendas for full Continuum of Care meetings, project monitoring, determining project priorities, and providing final approval for the CoC application submission. This body is also responsible for the implementation of the CoC's HMIS, either through direct oversight or through the designation of an HMIS implementing agency. This group may be the CoC Lead Agency or may authorize another entity to be the CoC Lead Agency under its direction.

7. Continuum of Care Registration. A step in the electronic application process that requires a CoC to claim geography and appoint a CoC Lead Agency that will be responsible for the submission of the electronic application to HUD.

C. CoC Planning Process

HUD will evaluate CoCs on the following criteria:

• CoC Housing, Services, and Structure;

• Homeless Needs and Data Collection;

• CoC Strategic Planning;

• CoC Performance; and

• Housing Emphasis.

These criteria are not significantly changed from prior years. Therefore, CoCs are encouraged to continue planning for the FY2008 CoC Homeless Assistance competition in the same manner that they have in past years. This includes:

1. Community-wide or region-wide participation. A CoC system is developed through a community-wide or region-wide process involving the coordination of nonprofit organizations (including those representing persons with disabilities), state and local government agencies, public housing agencies, community and faith-based organizations, other homeless providers, service providers, housing developers, private health care associations, law enforcement and corrections agencies, school systems, private funding providers, and homeless or formerly homeless persons to successfully address the complex and interrelated problems related to homelessness. As in the past, this year HUD emphasizes its determination to integrate and align plans including jurisdictional, state, and city ten-year plans (jurisdictional ten-year plans) encouraged by the U.S. Interagency Council on Homelessness and Consolidated Plans, into the CoC plans. These plans serve as a vehicle for a community to comprehensively identify each of its needs and to coordinate a plan for addressing them.

A CoC should address the specific needs of each homeless subpopulation: those experiencing chronic homelessness, veterans, persons with serious mental illnesses, persons with substance abuse issues, persons with HIV/AIDS, persons with co-occurring diagnoses (these may include diagnoses of multiple physical disabilities or multiple mental disabilities or a combination of these two types), victims of domestic violence, youth, and any others. To ensure that the CoC system addresses the needs of homeless veterans, it is particularly important that CoCs involve veteran service organizations with specific experience in serving homeless veterans.

2. CoC Geographic Area. In deciding what geographic area a CoC will cover as part of its CoC strategy, CoCs should be aware that a key factor in being awarded funding will be the strength of a CoC process when measured against the CoC rating factors described in the FY2008 CoC NOFA. When a CoC determines what jurisdictions to include in its CoC strategy area, it should include only those jurisdictions that are fully involved in the development and implementation of the CoC strategy.

The more jurisdictions a CoC includes in the CoC, the larger the pro rata need share that will be allocated to the strategy area. If a CoC is located in a rural county, it may wish to consider working with larger groups of contiguous counties to develop a region-wide or multi-county CoC strategy covering the combined service areas of these counties. The areas covered by CoC strategies should not overlap.

3. CoC Components. A CoC system typically consists of five basic elements, as follows:

a. A system of outreach, engagement, and assessment for determining the needs and conditions of individuals or families who are homeless, and necessary support to identify, prioritize, and respond to persons who are chronically homeless;

b. Emergency shelters with appropriate supportive services to help ensure that homeless individuals and families receive adequate emergency shelter and referral to necessary service providers or housing search counselors;

c. Transitional housing with appropriate supportive services to help homeless individuals and families prepare to make the transition to permanent housing and independent living;

d. Permanent housing, or permanent supportive housing, to help meet the long-term needs of homeless individuals and families; and,

e. Prevention strategies, which play an integral role in a community's plan to eliminate homelessness by effectively intervening for persons at risk of homelessness or those being discharged from public systems—e.g., corrections, foster care, mental health, and other institutions—so that they do not enter the homeless system. By law, prevention activities are ineligible activities in the three programs included in this Notice but are eligible for funding under the Emergency Shelter Grants (ESG) program and many other programs.

4. Once the CoC application has been submitted and scored, the CoC will receive its conditional award. This is the total amount of monies awarded to a CoC's eligible projects including new and renewal SHP and S+C projects, new SRO Moderate-Rehabilitation projects, Samaritan Housing Initiative and Rapid Re-Housing for Families Demonstration projects.

II. Completing the Registration Process for CoCs

A. Overview of Information Required for Registration

Regardless of the CoC structure and planning process, the FY2008 electronic registration/application process will require that each CoC select up to two persons, from the CoC Lead Agency, who are authorized to submit the CoC application and project applications to HUD, known as the CoC Lead Agency Contact(s). Before the CoC Lead Agency Contact(s) enters e-snaps (s)he should know the following information:

• The CoC's Lead Agency

• CoC contact person for receiving messages from HUD

• The CoC Name and Number

• The CoC's geographic areas

B. Submitting the Electronic Registration

In order to be eligible to submit an application through e-snaps for the FY2008 Homeless Assistance competition, CoCs must register in the electronic database, e-snaps, prior to the beginning of the FY2008 CoC competition. The CoC registration process will begin on or about May 1, 2008 and close at 4:00 p.m. Eastern Time on or about June 15, 2008. HUD will notify potential applicants of the exact registration opening and closing dates via the HUD Homeless Assistance listserv and through its Web sites located at http://www.hud.gov and http://www.hudhre.info. During the registration phase, CoCs will be asked to identify the CoC lead agency, contact information for lead agency staff, and the geography that the CoC is claiming. This process will not be part of www.grants.gov. CoCs will receive confirmation from HUD concerning claimed geography, PPRN and HHN Amounts. The CoC Lead Agency Contact may access e-snaps beginning on or about May 1, 2008 at http://www.hud.gov/esnaps.

HUD held a broadcast regarding the CoC registration process on April 22, 2008. This broadcast may be viewed at http://www.hud.gov/webcasts/archives/. On-line training for CoC Registration may be accessed at http://www.hudhre.info. To assist CoCs with the registration process, HUD has set up a Help Desk, which can be accessed toll free via phone at 1-877-6eSNAPS (1-877-637-6277) or via e-mail at esnaps@hudhre.info.

In addition, HUD has the HUD-defined CoC names and numbers as well as a list of each geographic area with its pro-rata need amount on http://www.hud.gov and http://www.hudhre.info/index.cfm?do=viewCoCGrantMaterials. Existing and proposed CoCs must register their HUD-defined CoC and claimed geography with HUD through e-snaps. If a CoC does not have a HUD-defined name it should contact the HUD Field Office serving its area.

In the instance that one or more CoC planning bodies claim one or more of the same geographies, HUD shall determine which CoC has the best claim for the geography based upon past experience and the participation and desires of the predominant number of homeless service providers in the disputed geography. The HUD decision on allocating geography is final and competing CoCs shall be notified of HUD's determination prior to the release of the FY2008 CoC application.

III. Changes for FY2008 CoC NOFA

The following is a list of major changes to the FY2008 CoC NOFA:

1. CoCs and project applicants will be required to apply for the FY2008 CoC competition electronically through http://www.hud.gov/esnaps.

2. CoCs will be required to register their CoCs in the new homeless electronic application system, e-snaps, prior to the beginning of the competition. For more information see Section II of this Notice.

3. A CoC may create multiple Samaritan Housing Initiative projects as long as the total amount of funding requested for all initiative projects does not exceed 15 percent of the CoC's Preliminary Pro Rata Need.

4. HUD will continue to score Homeless Assistance applications on a 100-point scale; however, the 40 Need points previously allocated to projects will be redistributed into the existing point structure. The exact redistribution of points will be announced in the FY2008 CoC NOFA. Need will continue to be accounted for through the formula that determines Preliminary Pro Rata Need or the Hold Harmless Need amounts for the CoC.

5. As directed by Congress in the FY2008 HUD Appropriation (Consolidated Appropriations Act, 2008, H.R. 2764), HUD will implement a Rapid Re-Housing for Families Demonstration Program through the FY2008 CoC NOFA. This demonstration program will serve homeless households with dependent children.

6. Safe Havens (SH) will no longer be given Transitional Housing (TH) or Permanent Housing (PH) classifications and grantees will have an opportunity through the FY2008 CoC NOFA to change the classification of their project without a grant amendment. Under the newly defined Safe Haven SHP program type, any chronically homeless person entering a Safe Haven will maintain his/her status as chronically homeless and will therefore be eligible to enter a funded Samaritan Housing Initiative project.

7. HUD is aware that there has been some confusion over Shelter Plus Care (S+C) and new SRO grant amounts and is reminding grantees and applicants that S+C and new SRO grants may not exceed 100 percent of the Fair Market Rent (FMR) for the Metropolitan Statistical Area (MSA) and unit size.

8. CoCs that are in “Hold Harmless Need Status” may now use the reallocation process to create new dedicated HMIS projects.

9. HUD will allow only one applicant for HMIS dedicated grants within a CoC.

10. HMIS funds contained in the Training and Technical Assistance line item of the HMIS budget may be used for travel, hotel, and per diem costs associated with the provision of technical assistance and training sessions by local HMIS staff; attendance at training sessions provided by local HMIS staff and/or outside trainers; attendance at HUD-sponsored HMIS training sessions or symposiums; attendance at HMIS vendor-sponsored user meetings; and attendance at other HMIS-related events as qualified and pre-approved by HUD Headquarters. Applicants may be asked to identify the number and type of HMIS training sessions for which they are requesting SHP funds during the technical submission process. Payments will be limited to the reasonableness of travel expenses as listed in 24 CFR Parts 84 and 85.

Dated: April 25, 2008.
Nelson R. Bregón,
General Deputy Assistant Secretary for Community Planning and Development.

[FR Doc. E8-9540 Filed 4-29-08; 8:45 am]

BILLING CODE 4210-67-P